DEPARTMENT OF JUSTICE

Notice of Lodging of Consent Decree Pursuant to Clean Water and Clean Air Acts

Notice is hereby given that on January 25, 2007, a proposed consent decree in United States v. Duro Textiles, LLC, Civil Action No. 1:07-cv-10130-GAO, was lodged with the United States District Court for the District of Massachusetts.

The proposed consent decree will settle the United States' claims for violations of the Clean Water Act, 33 U.S.C. 1251, et seq., and the Clean Air Act, 42 U.S.C. 7401, et seq., related to the failure by Duro Textile, LLC, at its plants in Fall River to, among other things: Comply with wastewater discharge limitations; perform required monitoring of storm water outfalls; incinerate properly volatile organic components from its processes; and keep required records. Pursuant to the proposed consent decree, Duro Textiles, LLC, will pay $480,000 as civil penalty for such violations, comply with record keeping requirements, and maintain compliance with the Acts at its Fall River plants in the future.

The Department of Justice will receive for a period of thirty (30) days from the date of this publication comments relating to the proposed consent decree. Comments should be addressed to the Assistant Attorney General of the Environmental and Natural Resources Division, Department of Justice, Washington, DC 20530, and should refer to United States v. Duro Textiles, LLC, Civil Action No. 1:07-cv-10130-GAO, D.J. Ref. 90-5-1-1-08584.

The proposed consent decree may also be examined at the Office of the United States Attorney, District of Massachusetts, John Moakley Courthouse, 1 Courthouse Way, Room, 9200, Boston, MA, at U.S. EPA Region 1, One Congress Street, Boston, MA. During the public comment period, the proposed consent decree may also be examined on the following Department of Justice Web site, http://www.usdoj.gov/enrd/Consent Decrees.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed consent decree, please so note and enclose a check in the amount of $8.25 (25 cent per page reproduction cost) payable to the U.S. Treasury, or if by e-mail or fax, forward a check in that amount to the Consent Decree Library at the stated address.

Ronald Gluck,
Assistant Chief, Environmental Enforcement Section, Environment and Natural Resources Division.

[FR Doc. 07-543 Filed 2-7-07; 8:45 am]

BILLING CODE 4410-15-M